DEPARTMENT OF STATE

[Public Notice: 8096]

60-Day Notice of Proposed Information Collection: Overseas Schools Grant Status Report

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to January 28, 2013.

ADDRESSES: Keith Miller, Department of State, Office of Overseas Schools, A/OPR/OS, Room H328, SA-1, Washington, DC 20522-0328, who is reachable on 202-261-8200.

You may submit comments by any of the following methods:

• Web: Persons with access to the Internet may use the Federal Docket Management System (FDMS) to comment on this notice by going to www.Regulations.gov. You can search for the document by entering “Public Notice ####” in the Search bar. If necessary, use the Narrow by Agency filter option on the Results page.

• Email: millerkd2@state.gov. You must include the DS form number, information collection title, and OMB control number in the subject line of your message.

• Mail: Office of Overseas Schools, U.S. Department of State, 2201 C Street NW., Washington, DC 20520.

• Fax: 202-261-8224.

• Hand Delivery or Courier: same as mail address.

You must include the DS form number (if applicable), information collection title, and the OMB control number in any correspondence.

FOR FURTHER INFORMATION CONTACT: Direct requests for additional information regarding the collection listed in this notice, including requests for copies of the proposed collection instrument and supporting documents, to Keith Miller, Department of State, Office of Overseas Schools, A/OPR/OS, Room H328, SA-1, Washington, DC 20522-0132, who may be reached on 202-261-8200 or at millerkd2@state.gov.

SUPPLEMENTARY INFORMATION:

• Title of Information Collection: Overseas Schools Grant Status Report.

• OMB Control Number: 1405-0033.

• Type of Request: Extension of a Currently Approved Collection.

• Originating Office: Bureau of Administration, A/OPR/OS.

• Form Number: DS-2028.

• Respondents: Overseas schools grantees.

• Estimated Number of Respondents: 196.

• Estimated Number of Responses: 196.

• Average Time per Response: 15 minutes.

• Total Estimated Burden Time: 49 hours.

• Frequency: Annually.

• Obligation To Respond: Required to obtain or retain a benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Office of Overseas Schools of the Department of State (A/OPR/OS) is responsible for determining that adequate educational opportunities exist at Foreign Service Posts for dependents of U.S. Government personnel stationed abroad, and for assisting American-sponsored overseas schools to demonstrate U.S. educational philosophy and practice. The information gathered provides the technical and professional staff of A/OPR/OS the means by which obligations, expenditures and reimbursements of the grant funds are monitored to ensure the grantee is in compliance with the terms of the grant.

Methodology

Information is collected via electronic and paper submission.

Dated: November 16, 2012.
William S. Amoroso,
Executive Director, Bureau of Administration, Department of State.

[FR Doc. 2012-28771 Filed 11-26-12; 8:45 am]

BILLING CODE 4710-24-P